ADMINISTRATIVE CONFERENCE OF THE UNITED STATES

Notice of Availability of Revised Model Adjudication Rules

AGENCY: Administrative Conference of the United States.

ACTION: Notice.

SUMMARY: The Office of the Chairman of the Administrative Conference of the United States, through its Model Adjudication Rules Working Group, has completed a revision of the Conference's 1993 Model Adjudication Rules. The rules are intended for use by all Federal agencies when designing new, and revising existing, procedural rules governing agency adjudications that involve a trial-type hearing—whether conducted pursuant to the Administrative Procedure Act), other statutes, agency regulations, or practice—that offers an opportunity for fact-finding before an adjudicator, whether or not the adjudicator is an administrative law judge.

The final revised Model Adjudication Rules are available at https://www.acus.gov/model-rules/model-adjudication-rules.

FOR FURTHER INFORMATION CONTACT: Francis Massaro, Attorney Advisor, Administrative Conference of the United States, 1120 20th Street NW, Suite 706 South, Washington, DC 20036; Telephone (202) 480-2080.

SUPPLEMENTARY INFORMATION: The Administrative Conference Act, 5 U.S.C. 591-596, established the Administrative Conference of the United States. The Conference studies the efficiency, adequacy, and fairness of the administrative procedures used by Federal agencies and makes recommendations for improvements to agencies, the President, Congress, and the Judicial Conference of the United States.

Originally released in 1993 by a working group of the Conference, the Model Adjudication Rules were designed for use by Federal agencies to amend or develop their procedural rules for hearings conducted under the Administrative Procedure Act. In 2016, the Office of the Chairman of the Administrative Conference of the United States established a similar working group—the Model Adjudication Rules Working Group—to review and revise the Conference's 1993 Model Adjudication Rules.

Numerous agencies have relied on the Conference's 1993 Model Adjudication Rules to improve existing adjudicative schemes; and newer agencies, like the Consumer Financial Protection Bureau, have relied on them to design new procedures. Significant changes in adjudicative practices and procedures since 1993—including use of electronic case management and video hearings—necessitated a careful review and revision of the Model Adjudication Rules. In the course of its work, the new Working Group relied on the Conference's extensive empirical research of adjudicative practices reflected in the Federal Administrative Adjudication Database, available at https://acus.law.stanford.edu/; amendments to the Federal Rules of Civil Procedure since 1993; and input from agency officials, academics, practitioners, and other stakeholders. Public comment on the draft revised Model Adjudication Rules was solicited in the Federal Register on January 22, 2018 (83 FR 2958), and multiple public meetings of the Working Group and the Conference's Adjudication Committee were held to help inform the final document.

Additional information about the Administrative Conference's Model Adjudication Rules project, including drafts, meeting agendas, a listing of the Working Group members, and other related information, can be found on the Conference's website at https://www.acus.gov/research-projects/office-chairman-model-adjudication-rules-working-group.

Dated: September 26, 2018.
Shawne McGibbon,
General Counsel.

[FR Doc. 2018-21438 Filed 10-1-18; 8:45 am]

BILLING CODE 6110-01-P